DEPARTMENT OF ENERGY

Federal Energy Regulatory Commission

Combined Notice of Filings #1

Take notice that the Commission received the following electric corporate filings:

Docket Numbers: EC22-98-000.

Applicants: NaturEner Glacier Wind Energy 1, LLC, NaturEner Glacier Wind Energy 2, LLC, NaturEner Power Watch, LLC, NaturEner Rim Rock Wind Energy, LLC, NaturEner Wind Watch, LLC, Berkshire Hathaway Energy Company.

Description: Joint Application for Authorization Under Section 203 of the Federal Power Act of NaturEner Glacier Wind Energy 1, LLC, et al.

Filed Date: 8/2/22.

Accession Number: 20220802-5135.

Comment Date: 5 p.m. ET 8/23/22.

Take notice that the Commission received the following Complaints and Compliance filings in EL Dockets:

Docket Numbers: EL22-81-000; TX22-8-000.

Applicants: Kimball Wind, LLC v. Western Area Power Administration, Rocky Mountain Region, Kimball Wind, LLC v. Western Area Power Administration, Rocky Mountain Region.

Description: Complaint of Kimball Wind, LLC v. Western Area Power Administration, Rocky Mountain Region.

Filed Date: 8/2/22.

Accession Number: 20220802-5172.

Comment Date: 5 p.m. ET 9/1/22.

Take notice that the Commission received the following electric rate filings:

Docket Numbers: ER10-1547-014; ER10-1975-029; ER10-2421-009; ER10-2585-009; ER10-2586-002; ER10-2590-010; ER10-2593-010; ER10-2613-009; ER10-2616-023; ER10-2617-011; ER10-2619-012; ER10-2677-015; ER10-3247-015; ER11-2457-009; ER11-3857-016; ER11-3867-016; ER11-4266-017; ER11-4400-020; ER12-75-012; ER12-192-016; ER12-1769-011; ER12-2250-010; ER12-2251-010; ER12-2252-011; ER12-2253-010; ER13-2475-013; ER14-883-016; ER14-924-008; ER14-1569-016; ER14-2245-010; ER15-1596-016; ER15-1598-008; ER15-1599-016; ER15-1600-007; ER15-1602-007; ER15-1605-007; ER15-1607-007; ER15-2535-005; ER16-1761-001; ER17-1906-004; ER19-102-009; ER19-158-011; ER19-2803-008; ER19-2806-008; ER19-2807-008; ER19-2809-008; ER19-2810-008; ER19-2811-008; ER20-2414-004; ER20-2415-004; ER21-2346-001; ER21-2347-001.

Applicants: Blackstone Power Generation LLC, Bellingham Power Generation LLC, Moss Landing Energy Storage 2, LLC, Moss Landing Energy Storage 1, LLC, Viridian Energy, LLC, Viridian Energy PA, LLC, Viridian Energy NY, LLC, Energy Rewards, LLC, Connecticut Gas & Electric, Inc., Cincinnati Bell Energy LLC, Ambit Northeast, LLC, Luminant Energy Company LLC, Lake Road Generating Company, LLC, Calumet Energy Team, LLC, Midwest Electric Power, Inc., Dynegy Washington II, LLC, Dynegy Miami Fort, LLC, Dynegy Hanging Rock II, LLC, Dynegy Fayette II, LLC, Dynegy Energy Services (East), LLC, Dynegy Dicks Creek, LLC, Dynegy Commercial Asset Management, LLC, TriEagle Energy, LP, Dynegy Energy Services, LLC, Illinois Power Resources Generating, LLC, Illinois Power Marketing Company, Kincaid Generation, L.L.C., Public Power & Utility of Maryland, LLC, Public Power, LLC of Pennsylvania, Public Power & Utility of NY, Inc, Public Power & Utility of New Jersey, LLC, Viridian Energy NG, LLC, Liberty Electric Power, LLC, Public Power & Utility, Inc., Dynegy Power Marketing, LLC, Richland-Stryker Generation LLC, MASSPOWER, Milford Power Company, LLC, Massachusetts Gas & Electric, Inc., Electric Energy, Inc., Pleasants Energy, LLC, Dynegy Kendall Energy, LLC, Ontelaunee Power Operating Co., LLC, Dynegy Marketing and Trade, LLC, Sithe/Independence Power Partners, L.P., Dynegy Oakland, LLC, Dynegy Moss Landing, LLC, Dynegy Midwest Generation, Inc., Casco Bay Energy Company, LLC, Energy Services Providers, Inc., North Jersey Energy Associates, L.P., Hopewell Cogeneration Limited Partnership.

Description: Notice of Change in Status of Hopewell Cogeneration Limited Partnership, et al.

Filed Date: 7/29/22.

Accession Number: 20220729-5399.

Comment Date: 5 p.m. ET 8/19/22.

Docket Numbers: ER10-1841-026; ER10-1852-069; ER10-1907-025; ER10-1918-026; ER10-1950-026; ER10-1951-047; ER10-1970-025; ER10-1972-025; ER10-2005-026; ER11-26-026; ER11-4462-069; ER12-1660-025; ER13-2458-020; ER13-2461-020; ER16-1872-016; ER16-2506-018; ER17-838-044; ER17-2270-017; ER18-1771-015; ER18-2224-016; ER18-2246-015; ER19-987-013; ER19-1003-013; ER19-1393-013; ER19-1394-013; ER19-2373-009; ER19-2382-009; ER19-2398-011; ER19-2437-009; ER19-2461-009; ER20-122-007; ER20-1220-007; ER20-1769-007; ER20-1879-008; ER20-1987-008; ER20-2690-007; ER21-1320-003; ER21-1953-005; ER21-2048-004; ER21-2100-004; ER22-381-004.

Applicants: Dunns Bridge Solar Center, LLC, Point Beach Solar, LLC, Sac County Wind, LLC, Heartland Divide Wind II, LLC, Crystal Lake Wind Energy III, LLC, Jordan Creek Wind Farm LLC, Cerro Gordo Wind, LLC, Oliver Wind I, LLC, Chicot Solar, LLC, Oliver Wind II, LLC, Crowned Ridge Interconnection, LLC, Crowned Ridge Wind, LLC, Emmons-Logan Wind, LLC, Hancock County Wind, LLC, Story County Wind, LLC, Ashtabula Wind I, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Pheasant Run Wind, LLC, Tuscola Wind II, LLC, Tuscola Bay Wind, LLC,NEPM II, LLC, Ashtabula Wind III, LLC, Ashtabula Wind II, LLC, NextEra Energy Point Beach, LLC, NextEra Energy Duane Arnold, LLC, Gexa Energy L.L.C., Garden Wind, LLC, FPL Energy North Dakota Wind II, LLC, FPL Energy North Dakota Wind, LLC, Florida Power & Light Company, Butler Ridge Wind Energy Center, LLC.

Description: Notice of Change in Status of Butler Ridge Wind Energy Center, LLC, et al.

Filed Date: 8/1/22.

Accession Number: 20220801-5294.

Comment Date: 5 p.m. ET 8/22/22.

Docket Numbers: ER10-1852-068; ER10-1890-022; ER10-1951-046; ER10-1962-022; ER19-1076-007; ER11-2160-022; ER19-1073-007; ER11-4462-068; ER11-4677-022; ER11-4678-022; ER17-804-002; ER12-631-023; ER12-676-018; ER12-2444-021; ER13-1991-022; ER13-1992-022; ER13-2112-017; ER15-1016-015; ER15-1375-016; ER15-1418-016; ER15-1883-016; ER15-2243-013; ER15-2477-015; ER16-90-015; ER16-91-015; ER16-632-015; ER16-2443-012; ER17-582-014; ER17-583-014; ER17-838-043; ER17-2340-012; ER20-819-009; ER20-820-008; ER20-2695-007; ER21-1580-004; ER21-1813-006; ER21-1814-006; ER21-2294-004; ER21-2304-004; ER22-415-004; ER22-1370-002.

Applicants: Sunlight Storage, LLC, Arlington Energy Center III, LLC, Arlington Solar, LLC, Arlington Energy Center II, LLC, Yellow Pine Energy Center II, LLC, Yellow Pine Energy Center I, LLC, Sky River Wind, LLC, Mohave County Wind Farm LLC, Blythe Solar IV, LLC, Blythe Solar III, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, Adelanto Solar II, LLC, McCoy Solar, LLC, Shafter Solar, LLC, Genesis Solar, LLC, Desert Sunlight 300, LLC, Desert Sunlight 250, LLC, North Sky River Energy, LLC, Perrin Ranch Wind, LLC, Windpower Partners 1993, LLC, Coram California Development, L.P., Vasco Winds, LLC, NextEra Energy Montezuma II Wind, LLC,NEPM II, LLC, Alta Wind VIII, LLC, FPL Energy Montezuma Wind, LLC, Windstar Energy, LLC, High Winds, LLC, Gexa Energy L.L.C., FPL Energy Green Power Wind, LLC, Florida Power & Light Company.

Description: Notice of Change in Status of Florida Power & Light Company, et al.

Filed Date: 8/1/22.

Accession Number: 20220801-5293.

Comment Date: 5 p.m. ET 8/22/22

Docket Numbers: ER11-3035-002.

Applicants: Midland Cogeneration Venture Limited Partnership.

Description: Midland Cogeneration Venture Limited Partnership submits Informational Filing to Schedule 2 of MISO's Tariff.

Filed Date: 7/21/22.

Accession Number: 20220721-5137.

Comment Date: 5 p.m. ET 8/11/22.

Docket Numbers: ER19-1553-006.

Applicants: Southern California Edison Company.

Description: Southern California Edison Company submits Compliance Filing.

Filed Date: 8/2/22.

Accession Number: 20220802-5173.

Comment Date: 5 p.m. ET 8/23/22.

Docket Numbers: ER21-281-002.

Applicants: MidAmerican Energy Company.

Description: Tariff Amendment: Amendment to Services Tariff (Docket No. ER21-281) to be effective 1/1/2021.

Filed Date: 8/3/22.

Accession Number: 20220803-5027.

Comment Date: 5 p.m. ET 8/24/22.

Docket Numbers: ER22-1679-000.

Applicants: Google Energy LLC.

Description: Supplement to April 22, 2022 Google Energy LLC tariff filing.

Filed Date: 6/16/22.

Accession Number: 20220616-5181.

Comment Date: 5 p.m. ET 8/10/22.

Docket Numbers: ER22-1698-003.

Applicants: EDF Spring Field WPC, LLC.

Description: Tariff Amendment: Amendment to 3 to be effective 6/28/2022.

Filed Date: 8/3/22.

Accession Number: 20220803-5114.

Comment Date: 5 p.m. ET 8/24/22.

Docket Numbers: ER22-2089-001.

Applicants: Alabama Power Company, Georgia Power Company, Mississippi Power Company.

Description: Tariff Amendment: Alabama Power Company submits tariff filing per 35.17(b): Supplement to Origis Development (Thalmann 1 Solar & Battery) LGIA Filing to be effective 6/1/2022.

Filed Date: 8/3/22.

Accession Number: 20220803-5101.

Comment Date: 5 p.m. ET 8/24/22.

Docket Numbers: ER22-2090-001.

Applicants: Alabama Power Company, Georgia Power Company, Mississippi Power Company.

Description: Tariff Amendment: Alabama Power Company submits tariff filing per 35.17(b): Supplement to Origis Development (Thalmann 2 Solar & Battery) LGIA Filing to be effective 6/1/2022.

Filed Date: 8/3/22.

Accession Number: 20220803-5102.

Comment Date: 5 p.m. ET 8/24/22.

Docket Numbers: ER22-2588-000.

Applicants: Puget Sound Energy, Inc.

Description: § 205(d) Rate Filing: NWPP Tariff Volume No. 9, Version 3.0.0 to be effective 10/1/2022.

Filed Date: 8/2/22.

Accession Number: 20220802-5104.

Comment Date: 5 p.m. ET 8/23/22.

Docket Numbers: ER22-2589-000.

Applicants: Public Service Company of New Mexico.

Description: Tariff Amendment: Notice of Cancellation Rate Schedule No. 45 to be effective 10/1/2022.

Filed Date: 8/2/22.

Accession Number: 20220802-5110.

Comment Date: 5 p.m. ET 8/23/22.

Docket Numbers: ER22-2590-000.

Applicants: PJM Interconnection, L.L.C.

Description: § 205(d) Rate Filing: Third Amendment to ISA, Service Agreement No. 5548; Queue No. AC1-076/AE2-134 to be effective 12/16/2019.

Filed Date: 8/3/22.

Accession Number: 20220803-5017.

Comment Date: 5 p.m. ET 8/24/22.

Docket Numbers: ER22-2591-000.

Applicants: Florida Power & Light Company.

Description: § 205(d) Rate Filing: FPL & FMPA Amendment No. 6 to Rate Schedule No. 74 to be effective 10/1/2022.

Filed Date: 8/3/22.

Accession Number: 20220803-5054.

Comment Date: 5 p.m. ET 8/24/22.

Docket Numbers: ER22-2592-000.

Applicants: Link Energy Incorporated.

Description: Tariff Amendment: Notice of Cancellation of MBR Tariff to be effective 8/4/2022.

Filed Date: 8/3/22.

Accession Number: 20220803-5058.

Comment Date: 5 p.m. ET 8/24/22.

Docket Numbers: ER22-2593-000.

Applicants: Alabama Power Company, Georgia Power Company, Mississippi Power Company.

Description: Tariff Amendment: Alabama Power Company submits tariff filing per 35.15: Pembroke Energy Project LGIA Termination Filing to be effective 8/3/2022.

Filed Date: 8/3/22.

Accession Number: 20220803-5062.

Comment Date: 5 p.m. ET 8/24/22.

Docket Numbers: ER22-2594-000.

Applicants: Public Service Company of Colorado.

Description: § 205(d) Rate Filing: 2022-08-03 Plains Hopper-FESA/SISA T-T 707-0.0.0 to be effective 8/4/2022.

Filed Date: 8/3/22.

Accession Number: 20220803-5070.

Comment Date: 5 p.m. ET 8/24/22.

Docket Numbers: ER22-2595-000.

Applicants: New York Independent System Operator, Inc.

Description: Tariff Amendment: Notice of cancellation of SGIA SA No. 2549 for NorthCountry Solar project to be effective 3/14/2022.

Filed Date: 8/3/22.

Accession Number: 20220803-5089.

Comment Date: 5 p.m. ET 8/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2022.
Debbie-Anne A. Reese,
Deputy Secretary.

[FR Doc. 2022-17053 Filed 8-8-22; 8:45 am]

BILLING CODE 6717-01-P